ENVIRONMENTAL PROTECTION AGENCY

[OPP-00688; FRL-6754-7]

FIFRA Scientific Advisory Panel; Notice of Public Meeting

AGENCY: Environmental Protection Agency (EPA).

ACTION: Notice of public meeting.

SUMMARY: There will be a 1-day meeting of the Federal Insecticide, Fungicide, and Rodenticide Act (FIFRA) and Food Quality Protection Act (FQPA) Scientific Advisory Panel (SAP) to review a set of issues being considered by the Agency pertaining to an assessment of scientific information concerning Starlink corn. The meeting is open to the public. Seating at the meeting will be on a first-come basis. Individuals requiring special accommodations at this meeting, including wheelchair access, should contact Paul Lewis at the address listed under For Further Information Contact at least 5 business days prior to the meeting so that appropriate arrangements can be made.

DATES: The meeting will be held on November 28 from 8:30 a.m. to 5:00 p.m.

ADDRESSES: The meeting will be held at the Holiday Inn Rosslyn Hotel, 1900 North Fort Myer Drive, Arlington, Virginia 22209. The telephone number for the Holiday Inn Rosslyn Hotel is (703) 807-2000.

Requests to participate may be submitted by mail, electronically, or in person. Please follow the detailed instructions for each method as provided in Unit I. of the Supplementary Information. To ensure proper receipt by EPA, your request must identify docket control number OPP-00688 in the subject line on the first page of your response.

FOR FURTHER INFORMATION CONTACT: Paul Lewis, Designated Federal Official, Office of Science Coordination and Policy, (7101C), Environmental Protection Agency, Ariel Rios Bldg., 1200 Pennsylvania Ave., NW., Washington, DC 20460; telephone number: (703) 305-5369; fax number: (703) 605-0656; e-mail address: lewis.paul@epa.gov.

SUPPLEMENTARY INFORMATION:

I. General Information

A. Does This Action Apply to Me?

This action is directed to the public in general. This action may, however, be of interest to persons interested in biotechnology and food plus issues related to the evaluation of allergens. Since other entities may also be interested, the Agency has not attempted to describe all the specific entities that may be affected by this action. If you have any questions regarding the applicability of this action to a particular entity, consult the person listed under For Further Information Contact.

B. How Can I Get Additional Information, Including Copies of This Document and Other Related Documents?

1. Electronically. A meeting agenda is currently available; EPA's primary background documents should be available the week of November 6, 2000. In addition, the Agency may provide additional documents as the material becomes available. You may obtain electronic copies of these documents, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr.

To access information about the meeting go directly to the FIFRA SAP Internet Home Page at http://www.epa.gov/scipoly/sap and select Federal Register notice announcing this meeting.

2. In person. The Agency has established an administrative record for this meeting under docket control number OPP-00688. The administrative record consists of the documents specifically referenced in this notice, any public comments received during an applicable comment period, and other information related to Starlink corn, including any information claimed as Confidential Business Information (CBI). This administrative record includes the documents that are physically located in the docket, as well as the documents that are referenced in those documents. In addition, the Agency may provide additional documents as the material becomes available. The public version of the administrative record, which includes printed, paper versions of any electronic comments that may be submitted during an applicable comment period, is available for inspection in the Public Information and Records Integrity Branch (PIRIB), Rm. 119, Crystal Mall #2, 1921 Jefferson Davis Hwy. Arlington, VA, from 8:30 a.m. to 4 p.m., Monday through Friday, excluding legal holidays. The PIRIB telephone number is (703) 305-5805.

C. How Can I Request to Participate in This Meeting?

You may submit a request to participate in this meeting through the mail, in person, or electronically. Do not submit any information in your request that is considered CBI. To ensure proper receipt by EPA, it is imperative that you identify docket control number OPP-00688 in the subject line on the first page of your request. Interested persons are permitted to file written statements before the meeting. To the extent that time permits, and upon advance written request to the person listed under For Further Information Contact, interested persons may be permitted by the Chair of the FIFRA Scientific Advisory Panel to present oral statements at the meeting. The request should identify the name of the individual making the presentation, the organization (if any) the individual will represent, and any requirements for audiovisual equipment (e.g., overhead projector, 35 mm projector, chalkboard, etc.). There is no limit on the extent of written comments for consideration by the Panel, but oral statements before the Panel are limited to approximately 5 minutes. The Agency also urges the public to submit written comments in lieu of oral presentations. Persons wishing to make oral and/or written statements at the meeting should contact the person listed under For Further Information Contact and submit 30 copies of their presentation and/or remarks to the Panel. The Agency encourages that written statements be submitted before the meeting to provide Panel Members the time necessary to consider and review the comments.

1. By mail. You may submit a request to: Public Information and Records Integrity Branch (PIRIB), Information Resources and Services Division (7502C), Office of Pesticide Programs (OPP), Environmental Protection Agency, Ariel Rios Bldg., 1200 Pennsylvania Ave., NW., Washington, DC 20460.

2. In person or by courier. Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your request electronically by e-mail to: “opp-docket@epa.gov.” Do not submit any information electronically that you consider to be CBI. Use WordPerfect 6.1/8.0 or ASCII file format and avoid the use of special characters and any form of encryption. Be sure to identify by docket control number OPP-00688. You may also file a request online at many Federal Depository Libraries.

II. Background

A. Purpose of the Meeting

On October 25, 2000, Aventis CropScience USA, LP (Aventis) submitted new information in support of its petition (PP 9F5050) (PF-867B) for an exemption from the requirement of a tolerance for the genetically engineered “plant-pesticide” in StarLink corn plant-pesticide in Bacillus thuringiensis subsp. tolworthi Cry9c protein and the genetic material (DNA) necessary for the production of this protein. While the original petition requested an exemption covering both the DNA and Cry9C protein in all food commodities, this submission limits the request only to foods made from StarLink corn. The Aventis submission specifically addresses the potential allergenicity of the Cry9C protein that may be present in human food made from StarLink corn, a line of genetically modified corn developed by Aventis.

On October 31, 2000, EPA issued a Notice in the Federal Register announcing receipt of the Aventis submission and the opportunity for the public to comment on the submission (65 FR 65245) (FRL-6754-3). This notice also indicated that EPA intended to hold a public meeting of a group of external independent scientists to conduct a peer review of scientific issues raised by the Aventis submission.

Today's notice announces the date, location and purpose of that public meeting, topics for discussion and provides additional information of the procedures that will be used in this meeting. This will be a 1-day meeting of the FIFRA Scientific Advisory Panel. The purpose of this FIFRA SAP meeting is to consider the potential allergenicity, sensitization and dietary exposure of Starlink corn.

B. Panel Report

The Agency anticipates that the Panel's report of their recommendations will be available as soon as possible but no later than December 1, 2000. The Panel's report will be posted on the FIFRA SAP web site or may be obtained by contacting the Public Information and Records Integrity Branch at the address or telephone number listed in Unit I. of this document.

List of Subjects

Environmental protection.

Dated: November 3, 2000.
Steven K. Galson,
Director, Office of Science Coordination and Policy, Office of Prevention, Pesticides, and Toxic Substances.

[FR Doc. 00-28643 Filed 11-3-00; 12:07 p.m.]

BILLING CODE 6560-50-S